DEPARTMENT OF THE TREASURY

Internal Revenue Service

26 CFR Part 300

[TD 10031]

RIN 1545-BR28

Estate Tax Closing Letter User Fee Update

Correction

In rule document 2025-08928, appearing on pages 21410 through 21413 in the issue of Tuesday, May 20, 2025, make the following correction:

1. Page 21412, in the 1st column, in the second pictured calculation in the column. The number for “Quality Assurance & Benefits” should be “$9,546” not “$95.46”.

2. Page 21412, in the 1st column, in the 1st pictured calculation under the heading “3. Full Cost Per Request Calculation”. The Full Cost amount should be “$502,573” not “$502.573”.

3. Page 21412, in the 1st column, in the 2nd pictured calculation under 3. Full Cost Per Request Calculation. The Full Cost amount should be “$502,573” not “$502.573”.

[FR Doc. C2-2025-08928 Filed 6-24-25; 8:45 am]

BILLING CODE 0099-10-D